DEPARTMENT OF THE INTERIOR

Fish and Wildlife Service

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council. Primary objectives of the meeting will include discussion of the following topics: Trinity River Restoration Program (TRRP) FY08 budget, 2007 Trinity River flow schedule, TRRP science program issues, 2006 salmon returns, salmon disease and mortality studies, Central Valley Project Improvement Act program review, TRRP executive director's report, and election of TAMWG officers. Completion of the agenda is dependent on the amount of time each item takes. The meeting could end early if the agenda has been completed. The meeting is open to the public.

DATES: The Trinity Adaptive Management Working Group will meet from 1 p.m. to 5 p.m. on Monday, March 19, 2007 and from 8:30 a.m. to 5 p.m. on Tuesday, March 20, 2007.

ADDRESSES: The meeting will be held at the Weaverville Victorian Inn, 1709 Main St., 299 West, Weaverville, 96093. For more information, please contact the U.S. Fish and Wildlife Service, 1655 Heindon Road, Arcata, 95521. For background information and questions regarding the Trinity River Restoration Program, please contact Douglas Schleusner, Executive Director, Trinity River Restoration Program, P.O. Box 1300, 1313 South Main Street, Weaverville, 96093.

FOR FURTHER INFORMATION CONTACT: Randy A. Brown of the U.S. Fish and Wildlife Service, Arcata Fish and Wildlife Office, telephone: (707) 822-7201. Randy A. Brown is the working group's Designated Federal Officer. For questions regarding the Trinity River Restoration Program, please contact Douglas Schleusner, Executive Director, telephone: (530) 623-1800.

SUPPLEMENTARY INFORMATION: Under section 10(a)(2) of the Federal Advisory Committee Act (5 U.S.C. App.), this notice announces a meeting of the Trinity Adaptive Management Working Group (TAMWG).

Dated: February 15, 2007.
Randy A. Brown,
Designated Federal Officer, Arcata Fish and Wildlife Office, Arcata, CA.

[FR Doc. E7-3106 Filed 2-22-07; 8:45 am]

BILLING CODE 4310-55-P